DEPARTMENT OF HOMELAND SECURITY

U.S. Customs And Border Protection

Notice of Revocation of Customs Broker License

AGENCY: U.S. Customs and Border Protection, DHS.

ACTION: General Notice.

SUMMARY: Pursuant to section 641 of the Tariff Act of 1930, as amended, (19 U.S.C. 1641) and the U.S. Customs and Border Protection regulations (19 CFR 111.51(b)), the following Customs broker license and all associated permits are revoked with prejudice.

Name | License # | Issuing port
I.F.T.C., Inc. | 11373 | Miami

Dated: April 14, 2011.
Allen Gina,
Assistant Commissioner, Office of International Trade.

[FR Doc. 2011-9960 Filed 4-22-11; 8:45 am]

BILLING CODE 9111-14-P